DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before October 31, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2014-027-C.

Petitioner: Oak Grove Resources, LLC, 8360 Taylor's Ferry Road, Hueytown, Alabama 35023.

Mine: Oak Grove Mine, MSHA I.D. No. 01-00851, located in Jefferson County, Alabama.

Regulation Affected: 30 CFR 75.364(b)(2) (Weekly examination).

Modification Request: The petitioner requests a modification of the existing standard because multiple roof falls have blocked travel in the Main North 2 left side returns at survey spad 28+92 for approximately one crosscut, making it unsafe for mine examiners to travel in the area. The deteriorated roof has essentially rendered the roof falls impractical to rehabilitate. The proposed alternative method of having a certified person take air quantity and quality measurements at monitoring stations MS-C and MS-D at both sides of the roof falls will provide the same measure of protection as the standard. The petitioner proposes the following additional terms and conditions:

(1) Two monitoring stations (MS-C and MS-D) will be provided to allow effective evaluation of airflow through the air split to ventilate the Main North 2 left side return air courses near the inaccessible roof falls. Monitoring station MS-C will monitor the air inby the roof fall, and monitoring station MS-D will monitor the air outby the roof fall.

(2) Signs showing the safe travel route to each monitoring station will be posted in an adjacent travel entry. The monitoring stations and routes of travel to the monitoring stations will be kept free of water accumulations.

(3) A certified person will conduct weekly evaluations at each of the monitoring stations. The evaluations will include the quantity and quality of the air entering or exiting the monitoring stations. The evaluation will also include a determination of any airflow from adjacent entries, defined and measured as stated in paragraph 8 below. These measurements will be made using MSHA-approved and calibrated hand-held multi-gas detectors to check the methane and oxygen gas concentrations, and calibrated anemometers to check airflow volume.

(4) A diagram showing the normal direction of the airflow will be posted at the monitoring stations. The diagram will be maintained in legible condition and any change in airflow direction will be reported to the mine foreman for immediate investigation.

(5) A date board will be provided at each monitoring station where the date, time, and examiner's initials will be recorded along with the measured quantity and quality of the air. Results of the examinations, including the condition of the accessible permanent ventilation controls creating the air course, will be recorded in a book kept on the surface and made accessible to all interested parties.

(6) All monitoring stations and approaches to monitoring stations will be maintained in a safe condition at all times. The roof will be adequately supported by roof bolts or other suitable means to prevent deterioration of the roof in the vicinity of the stations.

(7) Methane gas or other harmful, noxious, or poisonous gases will not be permitted to accumulate in excess of legal limits for return air. An increase of 0.5 percent methane above the last previous methane measurement or a 10 percent change in airflow quantity will cause an immediate investigation of the affected area. The results of the investigation will be immediately reported to the mine foreman.

(8) The initial airflow from adjacent air courses will be determined during the first evaluation following implementation of this modification. Airflow from adjacent air courses is defined as the difference between the air quantity entering and exiting the petitioned area, measured at the monitoring stations. A 10 percent change from the initial airflows in the air course will cause immediate examination and evaluation of the cause. Appropriate corrective action will then be taken. Following corrective action, a new “initial airflow” will be determined and serve as the basis for subsequent examinations.

(9) The monitoring station locations will be shown on the annually submitted mine ventilation map. The stations will not be moved to another location without prior approval by the District Manager (DM).

(10) Prior to implementation of this modification, all personnel will be instructed not to travel in the petitioned area, except along designated routes. All approaches will be fenced off or barricaded with “DO NOT ENTER” warning signs. Entrance into the area will be permitted only to conduct investigations and to correct problems with airflow detected through the monitoring process and all such work will be done under the supervision of an authorized person. All persons who work in the area will be instructed in the emergency evacuation procedures and all provisions of 30 CFR 75.1502 and 30 CFR 75.383.

(11) Within 60 days after the Proposed Decision and Order (PDO) becomes final, the petitioner will submit proposed revisions for its approved Part 48 training plan to the District Manager. The proposed revisions will include initial and refresher training regarding the PDO.

(12) Use of this system would prevent exposure of miners to unnecessary hazards, thereby increasing the measure of protection to the miners.

The petitioner asserts that the proposed alternative method will at all times guarantee no less than the same measure of protection to all miners as would be provided by the existing standard.

Docket Number: M-2014-028-C.

Petitioner: Bridger Coal Company, 1088 Nine Mile Road, Point of Rocks, Wyoming 82942-0068.

Mine: Bridger Underground Mine, MSHA I.D. No. 48-01646, located in Sweetwater County, Wyoming.

Regulation Affected: 30 CFR 75.350(a) (Belt air course ventilation).

Modification Request: The petitioner requests a modification of the existing standard to permit the belt air course to be used as a return air course, and for the belt entry to be used to ventilate the longwall working section.

The petitioner states that:

(1) Due to the weak nature of the seam strata at Bridger Underground Mine, reduced exposure to weak roof rocks and increased stability of the ribs and gate pillars is important.

(2) A two-entry longwall development mining system reduces exposure to the soft tertiary strata, roof falls, rib instability and other hazards related to mining under these conditions.

(3) The two-entry system greatly reduces the number of four-way intersections, a definite plus regarding ground control. Therefore, developing additional entries to comply with isolation of the belt entry from a separate return entry and diverting belt air directly into a return air course diminishes the safety of the miners, as compared to utilizing the belt entry as a return air course during development mining.

(4) The use of the belt entry to aid in the ventilation of the working section will help dilute and render harmless methane gas that is released in the mine atmosphere during the mining cycle.

The petitioner proposes to use the following requirements for two-entry development, longwall installation and recovery, and retreat mining systems:

(1) An atmospheric monitoring system (AMS) for early warning fire detection will be used throughout the two-entry system. All sensors that are part of the AMS will be diesel-discriminating (carbon monoxide and nitric oxide) sensors.

(2) The belt air course will be separated with permanent ventilation controls from return air courses and from other intake air courses except as provided within this petition. The belt air course is defined as the entry in which a belt is located and any adjacent entries not separated from the belt entry by permanent ventilation controls, including any entries in series with the belt entry, terminating at a return regulator, a section loading point, or the surface.

(3) The maximum air velocity in the belt entry will be no greater than 500 feet per minute, unless otherwise approved in the mine ventilation plan.

(4) The air velocities will be compatible with all fire detection systems and fire suppression systems used in the belt entry.

(5) The belt entry, the primary escapeway, and other intake entries if used, will be equipped with AMS that is installed, operated, examined and maintained as specified in this petition.

(6) Prior to the development of any portion of the two-entry mining system, all miners will receive annual training in the basic operating principles of the AMS, that will include actions required in the event of activation of any AMS alert or alarm signal. This training will be conducted as part of a miner's new miner training, experienced miner training, or annual refresher training.

(7) Mantrip cars, personnel carriers, or other transportation equipment will be maintained on or near the working section and on or near areas where mechanized mining equipment is being installed or removed, and will be of sufficient capacity to transport all persons who may be in the area, and will be located within 500 feet of the section loading point or proposed section loading point.

(8) Fire doors designed to quickly isolate the working section will be constructed in the two entries for use in emergency situations. The fire doors will be operable throughout the duration of the two-entry panel. A plan for the emergency closing of the fire doors, notification of personnel, and deenergization of electric power inby the doors, will be included in the 30 CFR 75.1502 mine emergency evacuation and firefighting program of instruction plan.

(9) Two separate lines or systems for voice communication will be maintained in the two-entry mining section. Phones will be installed every 1,000 feet within one crosscut of the location of the diesel-discriminating sensor in the belt and intake entries. The two systems will not be routed through the same entry. The methods of communications will be subject to approval of the DM. In addition, the underground personnel communication system (radio) will be used as a communication link between the AMS operator and the designated person on each working section, all diesel equipment operators on each panel, and any person investigating an alert condition.

(10) Communication and tracking systems will be installed and maintained according to the approved Emergency Response Plan (ERP), and will be subject to approval by the DM. Each individual located inby the mouth of the two-entry panel will carry a means of two-way communication.

(11) In addition to the requirements of 30 CFR 75.1100-2(b), fire hose outlets with valves every 300 feet will be installed along the intake entry. At least 500 feet of fire hose with fittings and nozzles suitable for connection with the outlets will be stored at each strategic location along the intake entry. The locations will be specified in the mine emergency evacuation and firefighting program of instruction plan.

(12) Compressor stations and unattended portable compressors will not be located in the two-entry panel.

The petitioner proposes to use the following additional requirements for two-entry panel development:

(1) Diesel-discriminating sensors will be installed in the belt conveyor entry within 25 feet inby and outby the crosscut where return air is directed out of the belt conveyor entry.

(2) A mechanical rock-dusting machine or the discharge hose of a mechanical rock-dusting machine will be installed in the belt conveyor entry near the section loading point of each two-entry development section. The mechanical rock-dusting machines will be operated continuously when coal is being produced to render the float coal dust inert in these entries, except when miners are performing maintenance, inspections, or other required work in these areas.

(3) A methane monitoring system utilizing methane sensors will be incorporated into the AMS and be installed to monitor the air in each belt haulage entry. The sensors will be located so that the belt air is monitored near the mouth of the development, near the tailpiece of the belt conveyor, and at or near any secondary belt drive unit installed in the belt haulage entry.

(4) The methane monitoring system will provide both audible and visual signals on both the working section and at a manned location on the surface of the mine where personnel will have two-way communications with all working sections, and will be on duty at all times when miners are underground in a two-entry section or when a conveyor belt is operating in a two-entry section. The system will initiate alarm signals when the methane level is 1.0 volume per centum. The methane monitoring system will deenergize the belt conveyor drive units when the methane level is 1.0 volume per centum. Upon notification of the alarm the miners will deenergize all other equipment located on the section.

The petitioner proposes to use the following additional requirements for retreat mining of the panels and longwall installation and recovery:

(1) Two separate intake air courses within each longwall panel will be provided to each two-entry longwall. Both air courses may be located on the same side of the panel. The air will travel in a direction from the mouth of the panel toward the section.

(2) The average concentration of respirable dust in the belt air course when used as an intake air course will be maintained at or below 1.0 mg/m³. A permanent designated area for dust measurements will be established at a point no greater than 50 feet upwind from the most outby open crosscut on the working section. The designated area will be specified and approved in the ventilation plan.

(3) Unless approved by the DM, no more than 50 percent of the total intake air delivered to the working section or to areas where mechanized mining equipment is being installed or removed can be supplied from the belt air course. The locations for measuring air quantities will be approved in the mine ventilation plan.

(4) Notwithstanding the provisions of 30 CFR 75.380(g), additional intake air may be added to the belt air course through a point feed regulator that is not located within a two-entry panel (i.e. main belt) to ventilate the working section(s). The location and use of any point feed will be approved in the mine ventilation plan.

(5) During longwall retreat mining, a mechanical rock-dusting machine or the discharge hose of a mechanical rock-dusting machine will be installed at or near the last tailgate shield. The rock-dusting machines will be operated continuously when coal is being produced to render float coal dust inert in these entries except when miners are performing maintenance, inspections, or other required work in these areas.

(6) When a hydraulic fluid pump station for the longwall support system is located in the two-entry system, it will be installed and maintained as follows:

(a) The pumps and electrical controls will be equipped with an automatic fire suppression system.

(b) Only MSHA-approved fire resistant hydraulic fluid of the “high water content group”, such as lsosynth VX 110BF2 or similar, will be used.

(c) The pump station will be maintained within 1,500 feet of the longwall face.

(d) In addition to the concentrate contained as part of the hydraulic pump system, hydraulic concentrate stored in the two-entry system will be limited to 500 gallons.

(e) A diesel-discriminating sensor will be installed between 50 and 100 feet downwind of the hydraulic pump station. The sensor will be installed in a location that will detect carbon monoxide caused by a fire and that will minimize the possibility of damage by mobile equipment.

(f) Whenever the transformer supplying power to the hydraulic pumping station is located in the intake entry, the transformer will be:

(i) Maintained within 1,500 feet of the longwall face.

(ii) Provided with a diesel-discriminating sensor located on the inby side of the transformer in a location that will detect carbon monoxide caused by a fire and that will minimize the possibility of damage by mobile equipment.

(iii) Provided with an over-temperature device that will deenergize the pumping station when the temperature reaches 165 degrees Fahrenheit.

(g) Each hydraulic pump will be provided with an over-temperature device that will automatically deenergize the motor on which it is installed. Deenergization will take place at a temperature of not more than 210 degrees Fahrenheit. The over-temperature device will be installed to monitor the circulating oil for the pump or on the external pump case housing.

(h) MSHA will be informed prior to the initial startup of the pumping system so that an inspection by MSHA can be conducted.

The petitioner proposes to use the following requirements for two-entry development, longwall installation and recovery, and retreat mining systems when diesel-powered equipment is operated on a two-entry system:

(1) The following administrative controls will be used:

(a) The number and type of pieces of diesel equipment in two-entry system will be minimized. A list of diesel equipment and their associated air quantity requirements will be provided at the designated surface location for use by the Atmospheric Monitoring System (AMS) operator. A whiteboard or similar method will be used by the AMS operator to keep a total of the air requirements of all diesel equipment operating in the two-entry system.

(b) The AMS operator will prohibit diesel equipment from entering the two-entry system when the total air required by all operating diesel equipment within the two-entry system exceeds the air quantity measure in the intake diesel roadway.

(c) The intake diesel roadway air quantity will be measured within three crosscuts outby the section loading point and will be included in all preshift examinations. Prior to entering or leaving a two-entry section, all diesel equipment operators will report to the designated AMS operator.

(2) Except ambulances used for emergencies only, all diesel powered equipment not approved and maintained under 30 CFR Part 36 operated on any two-entry system will include the following, maintained in operating condition:

(a) An automatic and manually activated fire suppression system meeting the requirements of 30 CFR 75.1911. The manual fire suppression system will be capable of being activated from both inside and outside the machine's cab. The manual actuator located outside the cab will be on the side of the machine opposite the operator.

(b) An automatic engine shut down/fuel shut-off system, tied into the activation of the fire suppression system that will be maintained in operating condition.

(c) An automatic closing heat-activated shut-off valve on diesel fuel lines either located between the fuel injection pump and fuel tank if the fuel lines are constructed of steel or located as close as practical to the fuel tank.

(d) A means to prevent the spray from ruptured diesel fuel, hydraulic oil, or lubricating oil lines from being ignited by contact with engine exhaust system component surfaces such as shielding, conduit, non-absorbent insulating materials, isolating compartments, etc.

(e) A means to maintain the surface temperature of the exhaust system of diesel equipment below 302 degrees Fahrenheit for diesel equipment classified as “heavy-duty” and that may be classified as light-duty but capable of performing work as heavy-duty equipment under 30 CFR 75.1908(a).

(f) A sensor to monitor the temperature and provide visual warning of an overheated cylinder head on air-cooled engines.

(3) A diesel-powered rock dust machine and diesel-powered generator, which are not approved and maintained under Part 36 or Part 7, can be used in the two-entry system, except where permissible equipment is required, provided no one is inby the work area.

(4) Diesel fuel will not be stored in the two-entry system and diesel-powered equipment not approved and maintained under Part 36, will not be refueled in the two-entry system.

(5) Diesel equipment will not be used for face haulage equipment on the working section, but may be used on the working section for cleanup, setup, and recovery or similar non-coal haulage purposes.

(6) If non-Part 36 diesel-equipment needs to be jump-started due to a dead battery in any two-entry system, a methane check will be made by a qualified person using an MSHA-approved detector prior to attaching the jumper cables. The equipment will not be jump-started if the air contains 1.0 volume per centum or more of methane.

(7) The operator will adopt and comply with a diesel equipment maintenance program. The program will include the examinations and tests specified in the manufacturer's maintenance recommendations as they pertain to diesel carbon monoxide emissions. A record of these examinations and tests will be maintained on the surface and made available to all interested persons.

In addition to the terms and conditions contained in this petition, the Atmospheric Monitoring System will be installed, operated, examined, and maintained and training will be conducted according to the provisions in 30 CFR 75.350, 75.351, and 75.352.

Prior to implementation of this petition, an inspection will be conducted by MSHA to ensure that the petitioner has complied with all of the terms and conditions of the petition. The petitioner will provide an approved Part 48 training plan that complies with all of the conditions specified in this petition. The following training will be provided:

(1) Equipment operators will be trained on using the fire suppression systems on diesel-equipment in the two-entry system.

(2) Miners will be trained on working on or maintaining the hydraulic pumping station when the hydraulic pumping station for the longwall supports is located in the two-entry system.

(3) Miners will be trained on emergency closing of fire doors, permanent ventilation control devices, notification of personnel, and deenergization of electric power within the longwall district.

(4) Miners will be trained on mine emergency evacuation and firefighting program instructions, the approved SCSR storage plan, the approved ventilation plan, and the approved emergency response plan.

The petitioner states that the terms and conditions of this petition will not apply during the time period from completion of the development mining of the two-entry longwall panel until the beginning of the longwall equipment setup activities, provided that the conveyor belt in the two-entry panel is not energized. During this time period all other mandatory standards will apply.

The petitioner asserts that application of the existing standard will result in a diminution of safety to the miners and that the proposed alternative method will at all times guarantee no less than the same measure of protection afforded by the existing standard.

Dated: September 25, 2014.
Sheila McConnell,
Acting Director, Office of Standards, Regulations and Variances.

[FR Doc. 2014-23298 Filed 9-30-14; 8:45 am]

BILLING CODE 4510-43-P